FEDERAL COMMUNICATIONS COMMISSION

47 CFR Part 73

[MM Docket No. 01-235 and 96-197; DA 01-2918]

RIN 4207

Cross-Ownership of Broadcast Stations and Newspapers

AGENCY: Federal Communications Commission.

ACTION: Final rule; extension of reply comment.

SUMMARY: This document extends the pleading cycle in an ongoing regulatory proceeding. The Commission takes this action at the request of a participant in the proceeding, and to ensure that the public has sufficient time to prepare comprehensive filings to help the Commission resolve the complex and significant public policy issues raised in the proceeding.

DATES: Reply comments are due February 15, 2002.

ADDRESSES: Federal Communications Commission, 445 12th Street, SW., Washington, DC 20554.

FOR FURTHER INFORMATION CONTACT: Eric J. Bash, Mass Media Bureau, Policy and Rules Division, (202) 418-2130 or ebash@fcc.gov.

SUPPLEMENTARY INFORMATION: 1. This is a summary of the Order in MM Docket No. 01-235; DA 01-2918, adopted December, 14, 2001, and released December 14, 2001. The complete text of this Order is available for inspection and copying during normal business hours in the FCC Reference Center, Room CY-A257, 445 12th Street, SW., Washington, DC and may also be purchased from the Commission's copy contractor, Qualex International, Portals II, 445 12th Street SW, Room CY-B-402, Washington, DC 20554, telephone (202) 863-2893, facsimile (202) 863-2898, or via e-mail qualexint@aol.com.

2. On December 12, 2001, the AFL-CIO, Center for Digital Democracy, Civil Rights Forum on Communications Policy, Consumer Federation of America, Consumers Union, Leadership Conference on Civil Rights, Media Alliance, National Organization for Women, and Office of Communication of United Church of Christ (hereafter, “petitioners”) filed a “Request for Extension of Time to File Reply Comments” in this proceeding. The current deadline to file reply comments is January 7, 2002; petitioners request the Commission to extend the deadline until February 15, 2002. Among other things, petitioners cite the volume and complexity of the record in this proceeding, and the pendency of various other proceedings in which they intend to participate, as reasons for their request. The petitioners claim that granting their requested extension will not prejudice this proceeding, and suggest that denying it could disadvantage them in particular.

3. On December 14, 2001, the Newspaper Association of America (hereafter, “NAA”) filed an “Opposition to Request for Extension of Time.” NAA contends that review of the newspaper/broadcast cross-ownership rule is long overdue, and that the petitioners' requested extension is excessive and will unnecessarily delay this proceeding.

4. While we appreciate NAA's concerns, we believe that the public interest would be best served by granting petitioners' request. To date, nearly 1500 commenters have filed in this proceeding. Some of these comments are extensive, with detailed factual allegations, legal arguments, policy proposals, and supporting studies. NAA has not explained how or why a delay of approximately one month would harm its members. Given these circumstances, we believe that additional time would assist petitioners and other members of the public alike in preparing comprehensive responses, which in turn will help the Commission in its decision-making and resolving the complex and significant public policy issues raised in this proceeding.

5. Accordingly, the petitioners' Request for Extension of Time to File Reply Comments is granted.

6. The reply comment deadline in this proceeding is extended to February 15, 2002.

Federal Communications Commission.
William, F. Caton,
Deputy Secretary.

[FR Doc. 02-372 Filed 1-7-02; 8:45 am]

BILLING CODE 6712-01-P